DEPARTMENT OF EDUCATION

Proposed Waiver and Extension of the Project Period for the Striving Readers Comprehensive Literacy Program

AGENCY: Office of Elementary and Secondary Education, Department of Education.

ACTION: Proposed waiver and extension of the project period.

SUMMARY: For the Striving Readers Comprehensive Literacy program, the Secretary proposes to: (1) Waive the restriction against project period extensions involving the obligation of additional Federal funds; and (2) extend the project period for a grantee that only requested three out of a possible five years of funding. The Secretary proposes this action because additional funds are available from the fiscal year (FY) 2014 appropriation to support this extension and we believe that it would be in the public interest to support continued funding of the affected project. This proposed extension would support the affected grantee in its efforts to fully implement its State Literacy Plan, as well as to continue its sustainability efforts and program activities.

DATES: We must receive your comments on or before June 19, 2014.

ADDRESSES: Address all comments about this proposed waiver and extension of the project period to Rosemary Fennell, U.S. Department of Education, 400 Maryland Avenue SW., Room 3E228, Washington, DC 20202-6200.

If you prefer to send your comments by email, use the following address: rosemary.fennell@ed.gov. You must include the phrase “Proposed waiver and extension of the project period” in the subject line of your message.

FOR FURTHER INFORMATION CONTACT: Rosemary Fennell by telephone at (202) 401-2425 or by email at: rosemary.fennell@ed.gov.

If you use a telecommunications device for the deaf (TDD) or a text telephone (TTY), call the Federal Relay Service (FRS), toll free, at 1-800-877-8339.

SUPPLEMENTARY INFORMATION: Invitation to Comment: We invite you to submit comments regarding this proposed waiver and extension of the project period.

During and after the comment period, you may inspect all public comments about this proposed waiver and extension in Room 3E228, 400 Maryland Avenue SW., Washington, DC, between the hours of 8:30 a.m. and 4:00 p.m., Washington, DC time, Monday through Friday of each week except Federal holidays.

Assistance to Individuals With Disabilities in Reviewing the Rulemaking Record: On request we will provide an appropriate accommodation or auxiliary aid to an individual with a disability who needs assistance to review the comments or other documents in the public rulemaking record for this proposed waiver and extension. If you want to schedule an appointment for this type of accommodation or auxiliary aid, please contact the person listed under FOR FURTHER INFORMATION CONTACT.

Background

In FY 2010, Congress appropriated $200 million to support establishment of a comprehensive literacy development and education program through the Consolidated Appropriations Act (Pub. L. 111-117, “the Act”) under section 1502 of the Elementary and Secondary Education Act of 1965, as amended (ESEA). The purpose of the Striving Readers Comprehensive Literacy grant program (SRCL) is to advance literacy skills—including pre-literacy skills, reading, and writing—for students from birth through grade 12, including limited-English-proficient students and students with disabilities. Section 1502 of the ESEA provides the authority for demonstration programs, like SRCL, that show promise of enabling children to meet challenging academic content and achievement standards. SRCL funds are awarded through multiple funding streams—formula grants, discretionary grants and set-aside—for the common purpose of advancing literacy skills. The FY 2010 formula grant program awarded $10 million to 46 States, the District of Columbia and the Commonwealth of Puerto Rico to assist States in creating or maintaining a State Literacy Team of at least nine members with expertise in literacy development and education for children from birth through grade 12 to assist the State in developing a comprehensive literacy plan.

FY 2010 funds also were distributed through a discretionary grant competition conducted in FY 2011 to six State educational agencies (SEAs), and through set aside grants to the Bureau of Indian Education (BIE) and four Outlying Areas—American Samoa, Guam, Commonwealth of the Northern Mariana Islands and the Virgin Islands. The U.S. Department of Education (the Department) announced this discretionary grant competition in a notice inviting applications that was published in the Federal Register on March 10, 2011 (76 FR 13143) (March 2011 NIA). The purpose of the discretionary grants to SEAs and the set asides to BIE and the Outlying Areas is to encourage these entities to take a comprehensive approach to literacy that includes pre-literacy, reading, and writing skills for all students—including disadvantaged students, limited-English proficient students, and students with disabilities—from birth to grade 12.

The grants awarded under the FY 2011 competition were for a project period of up to five years. The Department indicated in the March 2011 NIA that it planned to make continuation awards in accordance with section 75.253 of the Education Department's General Administrative Regulations (EDGAR) (34 CFR 75.253), depending on the availability of funds.

Five of the six SEA grantees funded under the FY 2011 grant competition submitted a budget for all five years of the grant period. One grantee, the Montana Department of Education, submitted a budget request for only three years, believing that it could request funding for years 4 and 5 after receiving a grant award. On March 25, 2014, the Montana Department of Education, Office of Public Instruction requested to extend its project period for an additional two years.

The Secretary proposes to waive the requirement of 34 CFR 75.261(a) and (c)(2) of EDGAR that generally prohibits project period extensions involving the obligation of additional Federal funds. The Secretary also proposes to extend the current Montana SRCL project period for an additional 24 months. This would allow the grantee to seek a continuation award for FY 2014 and FY 2015.

The FY 2014 appropriation contained sufficient funding to continue Montana's grant. The appropriation for the SRCL program included $158 million, an increase of approximately $6 million over the FY 2013 funding level. Based on this modest increase, the Department does not plan to conduct a new competition in FY 2014, as there are insufficient funds to provide continuation awards and to fund new grantees.

We believe it best serves the interests of the Department and the public to ensure the full cohort of grantees, including Montana, the opportunity to complete a five-year program, as originally intended in the March 2011 NIA, to get the best data on promising literacy practices that can be implemented nationwide. Providing Montana an opportunity for an additional two years of funding, and in turn an additional two years of data on implementation, is consistent with the underlying purpose of the SRCL program funded under the Section 1502 demonstration authority: To provide data on the results of promising literacy practices implemented under the SRCL program.

Additionally, the Montana Department of Education's SRCL project is at a critical point; the State is working with participating local education agencies (LEA) to fully implement the State Literacy Plan, and to implement sustainability efforts and activities. The Montana SRCL Implementation Team continues it work to assess and evaluate the effectiveness of the implementation of the State Literacy Plan, and continues to identify and provide the support and resources necessary to ensure processes and systems created through the SRCL program are sustainable. The Montana Department of Education has used data-driven decisions, through its evaluation and assessment activities, to make improvements to the SRCL program across 10 LEAs and 32 schools. Without an extension of the project period to allow for the work that will lead to sustainability and full implementation of the State Literacy Plan, the SRCL program may cease in some LEAs and be greatly curtailed in others.

Therefore, to ensure continuity and stability of the SRCL program in Montana, we propose to waive the requirement of 34 CFR 75.261(a) and (c)(2) of EDGAR to extend the Montana Department of Education's SRCL project for two additional years. This two-year extension of the project period would ensure seamless program delivery to the sub-grantees awarded under the Montana Department of Education SRCL grant award, as well as data on project implementation.

If the waiver of the requirement of 34 CFR 75.261(a) and (c)(2) of EDGAR that we propose in this proposed waiver and extension is announced by the Department in a final proposed waiver and extension, the requirements applicable to continuation awards for current SRCL grantees and the requirements in section 75.253 of EDGAR would apply to any continuation awards made to current SRCL grantees, including the Montana Department of Education.

If we announce this proposed waiver and extension of the project period as final, we would use the process stated in the March 2011 NIA and the regulations in 34 CFR 75.253 to make continuation awards based on information that each grantee provides, indicating that each grantee is making substantial progress performing its SRCL grant activities and is showing improvement against baseline data on specific indicators listed in the March 2011 NIA.

Any activities to be carried out during the remaining continuation years of the SRCL award must be consistent with, or be a logical extension of, the scope, goals, and objectives of each grantee's application as approved in the FY 2011 SRCL competition. Under this proposed waiver and extension, the project period for the Montana SRCL grantees would be extended through September 30, 2016—the same project period for all SRCL grantees.

We will announce the final waiver and extension of the proposed project period in the Federal Register. We will determine the final waiver and extension of the proposed project period after considering responses to this proposed waiver and extension, and other information available to the Department.

Note: This proposed waiver and extension does not solicit applications.

Regulatory Flexibility Act Certification

The Secretary certifies that this proposed waiver and extension of the activities required to support additional years of funding would not have a significant economic impact on a substantial number of small entities. The entities that would be affected by this proposed waiver and extension are the current SRCL grantees receiving Federal funds and any other potential applicants.

The Secretary certifies that the proposed waiver and extension would not have a significant economic impact on these entities because the proposed waiver and extension impose minimal compliance costs to extend a single project already in existence, and the activities required to support the additional years of funding would not impose additional regulatory burdens or require unnecessary Federal supervision.

Paperwork Reduction Act of 1995

This proposed waiver and extension of the period does not contain any information collection requirements.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: May 15, 2014.
Deborah Delisle,
Assistant Secretary for Elementary and Secondary Education.

[FR Doc. 2014-11669 Filed 5-19-14; 8:45 am]

BILLING CODE 4000-01-P